DEPARTMENT OF AGRICULTURE

Food and Nutrition Service

7 CFR Parts 210 and 220

RIN 0584-AE25

Local School Wellness Policy Implementation Under the Healthy, Hunger-Free Kids Act of 2010; Approval of Information Collection Request

AGENCY: Food and Nutrition Service, USDA.

ACTION: Final rule; notice of approval of Information Collection Request (ICR).

SUMMARY: The final rule titled Local School Wellness Policy Implementation Under the Healthy, Hunger-Free Kids Act of 2010 was published on July 29, 2016. The Office of Management and Budget (OMB) cleared the associated information collection requirements (ICR) on September 12, 2016. This document announces approval of the ICR.

DATES: Effective January 9, 2017. The ICR associated with the final rule published in the Federal Register on July 29, 2016, at 81 FR 50151, was approved by OMB on September 12, 2016, under OMB Control Number 0584-0592. The ICR was subsequently merged with 0584-0006.

FOR FURTHER INFORMATION CONTACT: Tina Namian, School Programs Branch, Policy and Program Development Division, Food and Nutrition Service, at (703) 305-2590.

Dated: December 23, 2016.
Richard Lucas,
Acting Administrator, Food and Nutrition Service.

[FR Doc. 2016-31954 Filed 1-6-17; 8:45 am]

BILLING CODE 3410-30-P